ENVIRONMENTAL PROTECTION AGENCY

40 CFR Parts 52 and 81

[EPA-R05-OAR-2012-0337 and EPA-R05-OAR-2012-0462; FRL-9900-79-Region 5]

Approval and Promulgation of Air Quality Implementation Plans; Ohio; Redesignation of the Steubenville-Weirton Area to Attainment of the 1997 Annual Standard and the 2006 24-Hour Standard for Fine Particulate Matter

AGENCY: Environmental Protection Agency (EPA).

ACTION: Final rule.

SUMMARY: EPA is redesignating under the Clean Air Act (CAA) the Ohio portion of the Steubenville-Weirton area (Jefferson County, OH and Brooke and Hancock Counties, WV) to attainment for the 1997 annual and 2006 24-hour national ambient air quality standards (NAAQS or standard) for fine particulate matter (PM2.5). On April 16, and May 31, 2012, the Ohio Environmental Protection Agency (OEPA) submitted a request for EPA to redesignate the Steubenville-Weirton Ohio nonattainment area. EPA determined that the Steubenville-Weirton area has attained the 1997 annual and 2006 24-hour PM2.5 standard, and proposed to approve Ohio's request to redesignate the area on July 11, 2013. EPA's final rulemaking involves several related actions. EPA is approving, as a revision to the Ohio state implementation plan (SIP), the state's plan for maintaining the 1997 annual and 2006 24-hour PM2.5 NAAQS in the area through 2025. EPA is making a finding of insignificance for Ohio's motor vehicle emissions of nitrogen oxides (NOX) and direct PM2.5 for the Steubenville-Weirton area for transportation conformity purposes. Therefore, as Ohio requested, EPA is redesignating the Ohio portion of the Steubenville-Weirton area to attainment for the 1997 PM2.5 annual and 2006 24-hour standards.

DATES: This rule will be effective September 18, 2013.

ADDRESSES: EPA has established a docket for this action under Docket Identification EPA-R05-OAR-2012-0337 and EPA-R05-OAR-2012-0462. All documents in these dockets are listed on the www.regulations.gov Web site. Although listed in the index, some information is not publicly available, e.g., CBI or other information whose disclosure is restricted by statute. Certain other material, such as copyrighted material, will be publicly available only in hard copy. Publicly available docket materials are available either electronically in www.regulations.gov or in hard copy at the U.S. Environmental Protection Agency, Region 5, Air and Radiation Division, 77 West Jackson Boulevard, Chicago, Illinois 60604. This facility is open from 8:30 a.m. to 4:30 p.m., Monday through Friday, excluding Federal holidays. We recommend that you telephone Carolyn Persoon at (312) 353-8290 before visiting the Region 5 office.

FOR FURTHER INFORMATION CONTACT: Carolyn Persoon, Environmental Engineer, Control Strategies Section, Air Programs Branch (AR-18J), Environmental Protection Agency, Region 5, 77 West Jackson Boulevard, Chicago, Illinois 60604, (312) 353-8290, persoon.carolyn@epa.gov.

SUPPLEMENTARY INFORMATION: Throughout this document whenever “we,” “us,” or “our” is used, we mean EPA. This supplementary information section is arranged as follows:

I. What is the background for the actions?

II. What actions is EPA taking?

III. What is EPA's response to comments?

IV. Why is EPA taking these actions?

V. Final Action

VI. Statutory and Executive Order Reviews

I. What is the background for the actions?

On April 16, and May 31, 2012, OEPA submitted a request for EPA to redesignate the Steubenville-Weirton nonattainment area to attainment for the 1997 annual and 2006 24-hour PM2.5 NAAQS, and for EPA approval of the state's SIP revision containing an emissions inventory and a maintenance plan for the area. On July 11, 2013, (78 FR 41752), EPA proposed redesignation and proposed approval of Ohio's plan for maintaining the 1997 annual and 2006 24-hour PM2.5 NAAQS. Finally, for transportation conformity purposes EPA is approving Ohio's determination that on-road emissions of PM2.5 and NOX are insignificant contributors to PM2.5 concentrations in the area. Additional background for today's action is set forth in EPA's July 11, 2013, proposed rulemaking.

II. What actions is EPA taking?

EPA has determined that the entire Steubenville-Weirton area is attaining the 1997 annual and 2006 24-hour PM2.5 standard (78 FR 41752) and that the Ohio portion of the area has met the requirements for redesignation under section 107(d)(3)(E) of the CAA. Thus, EPA is changing the legal designation of the Ohio portion of the Steubenville-Weirton area from nonattainment to attainment for the 1997 annual and 2006 24-hour PM2.5 NAAQS. This action does not address the West Virginia portion of the Steubenville-Weirton area. EPA is also taking several additional actions related to Ohio's PM2.5 redesignation requests, as discussed below.

EPA is approving Ohio's 1997 and 2006 PM2.5 maintenance plans for the Steubenville-Weirton area as revisions to the Ohio SIP (such approval being one of the CAA criteria for redesignation to attainment status). The maintenance plans are designed to keep the Steubenville-Weirton area in attainment of the 1997 annual and 2006 24-hour PM2.5 NAAQS through 2025.

EPA is also approving the 2005 and 2008 emission inventories for primary PM2.5,¹ NOX, and sulfur dioxide (SO2),² documented in Ohio's PM2.5 redesignation request submittals. These emissions inventories satisfy the requirement in section 172(c)(3) of the CAA for a comprehensive, current emission inventory.

¹ Fine particulates directly emitted by sources and not formed in a secondary manner through chemical reactions or other processes in the atmosphere.

² NOX and SO2 are precursors for fine particulates through chemical reactions and other related processes in the atmosphere.

Finally, EPA is approving Ohio's determination for transportation conformity purposes that on-road emissions of PM2.5 and NOX are insignificant contributors to PM2.5 concentrations in the area.

Further discussion of the basis for these actions was provided in the proposal on July 11, 2013 (78 FR 41752).

III. What is EPA's response to comments?

EPA received no comments on its proposed rulemaking.

IV. Why is EPA taking these actions?

EPA has determined that the Steubenville-Weirton area has continued to attain the 1997 annual and 2006 24-hour PM2.5 NAAQS. EPA has also determined that all other criteria have been met for the redesignation of the Ohio portion of the Steubenville-Weirton area from nonattainment to attainment of the 1997 annual and 2006 24-hour PM2.5 NAAQS and for approval of Ohio's maintenance plan for the area. See CAA sections 107(d)(3)(E) and 175A. The detailed rationale for EPA's findings and actions is set forth in the proposed rulemaking of July 11, 2013, (78 FR 41752), and in this final rulemaking.

V. Final Action

EPA has previously made the determination that the Steubenville-Weirton area has attained the 1997 annual and 2006 24-hour PM2.5 standard (76 FR 56641; 77 FR 28264, respectively). EPA is determining that the area continues to attain the standards and that the Ohio portion of the area meets the requirements for redesignation to attainment of the standards under sections 107(d)(3)(E) and 175A of the CAA. Thus, EPA is changing the legal designation of the Ohio portion of the Steubenville-Weirton area from nonattainment to attainment for the 1997 annual and 2006 24-hour PM2.5 NAAQS. EPA is also approving Ohio's 1997 annual and 2006 24-hour PM2.5 maintenance plans for the Steubenville-Weirton area as a revision to the SIP because the plan meets the requirements of section 175A of the CAA. EPA is approving the 2005 and 2008 emissions inventories for primary PM2.5, NOX, and SO2, documented in Ohio's April 16, and May 31, 2012, submittals as satisfying the requirement in section 172(c)(3) of the CAA for a comprehensive, current emission inventory.

Finally, EPA is approving Ohio's determination for transportation conformity purposes that on-road emissions of PM2.5 and NOX are insignificant contributors to PM2.5 concentrations in the area.

In accordance with 5 U.S.C. 553(d), EPA finds there is good cause for this action to become effective immediately upon publication. This is because a delayed effective date is unnecessary due to the nature of a redesignation to attainment, which relieves the area from certain CAA requirements that would otherwise apply to it. The immediate effective date for this action is authorized under both 5 U.S.C. 553(d)(1), which provides that rulemaking actions may become effective less than 30 days after publication if the rule—grants or recognizes an exemption or relieves a restriction, and section 553(d)(3), which allows an effective date less than 30 days after publication—as otherwise provided by the agency for good cause found and published with the rule. The purpose of the 30-day waiting period prescribed in section 553(d) is to give affected parties a reasonable time to adjust their behavior and prepare before the final rule takes effect. Today's rule, however, does not create any new regulatory requirements such that affected parties would need time to prepare before the rule takes effect. Rather, today's rule relieves the Ohio of various requirements for the Ohio portion of the Steubenville-Weirton area. For these reasons, EPA finds good cause under 5 U.S.C. 553(d)(3) for this action to become effective on the date of publication of this action.

VI. Statutory and Executive Order Reviews

Under the CAA, redesignation of an area to attainment and the accompanying approval of the maintenance plan under CAA section 107(d)(3)(E) are actions that affect the status of geographical area and do not impose any additional regulatory requirements on sources beyond those required by state law. A redesignation to attainment does not in and of itself impose any new requirements, but rather results in the application of requirements contained in the CAA for areas that have been redesignated to attainment. Moreover, the Administrator is required to approve a SIP submission that complies with the provisions of the Act and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For these reasons, these actions:

• Are not a “significant regulatory action” subject to review by the Office of Management and Budget under Executive Order 12866 (58 FR 51735, October 4, 1993);

• Do not impose an information collection burden under the provisions of the Paperwork Reduction Act (44 U.S.C. 3501 et seq.);

• are certified as not having a significant economic impact on a substantial number of small entities under the Regulatory Flexibility Act (5 U.S.C. 601 et seq.);

• do not contain any unfunded mandate or significantly or uniquely affect small governments, as described in the Unfunded Mandates Reform Act of 1995 (Pub. L. 104-4);

• do not have Federalism implications as specified in Executive Order 13132 (64 FR 43255, August 10, 1999);

• are not an economically significant regulatory action based on health or safety risks subject to Executive Order 13045 (62 FR 19885, April 23, 1997);

• are not significant regulatory action subject to Executive Order 13211 (66 FR 28355, May 22, 2001);

• are not subject to requirements of Section 12(d) of the National Technology Transfer and Advancement Act of 1995 (15 U.S.C. 272 note) because application of those requirements would be inconsistent with the CAA; and,

• do not provide EPA with the discretionary authority to address, as appropriate, disproportionate human health or environmental effects, using practicable and legally permissible methods, under Executive Order 12898 (59 FR 7629, February 16, 1994).

In addition, this final rule does not have tribal implications as specified by Executive Order 13175 (65 FR 67249, November 9, 2000), because the SIP is not approved to apply in Indian country located in the Commonwealth, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by November 18, 2013. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).

List of Subjects

40 CFR Part 52

Environmental protection, Air pollution control, Incorporation by reference, Intergovernmental relations, Particulate matter.

40 CFR Part 81

Environmental protection, Air pollution control, National parks, Wilderness areas.

Dated: August 27, 2013.
Susan Hedman,
Regional Administrator, Region 5.

40 CFR Parts 52 and 81 are amended as follows:

PART 52—APPROVAL AND PROMULGATION OF IMPLEMENTATION PLANS

1. The authority citation for part 52 continues to read as follows:

Authority: 42 U.S.C. 7401 et seq.

2. Section 52.1880 is amended by adding paragraphs (p)(5), (q)(5), (s), and (t) to read as follows:

§ 52.1880 Control strategy: Particulate matter.

* * * * *

(p) * * *

(5) The Ohio portion of the Steubenville-Weirton nonattainment area (Jefferson County). The maintenance plan establishes a determination of insignificance for both NOX and primary PM2.5 for conformity purposes.

(q) * * *

(5) Ohio's 2005 and 2008 NOX, directly emitted PM2.5, SO2, VOC, and ammonia emissions inventory satisfies the emission inventory requirements of section 172(c)(3) for the Steubenville-Weirton area.

* * * * *

(s) Approval—The 2006 24-hour PM2.5 maintenance plans for the following areas have been approved:

(1) The Ohio portion of the Steubenville-Weirton nonattainment area (Jefferson County). The maintenance plan establishes a determination of insignificance for both NOX and primary PM2.5 for conformity purposes.

(t) Approval—The 2006 24-hour PM2.5 comprehensive emissions inventories for the following areas have been approved:

(1) Ohio's 2005 and 2008 NOX, directly emitted PM2.5, SO2, VOC, and ammonia emissions inventory satisfies the emission inventory requirements of section 172(c)(3) for the Steubenville-Weirton area.

PART 81--DESIGNATION OF AREAS FOR AIR QUALITY PLANNING PURPOSES

3. The authority citation for part 81 continues to read as follows:

Authority: 42 U.S.C. 7401 et seq.

4. Section 81.336 is amended by revising the entry for Steubenville-Weirton, OH-WV in the tables entitled “Ohio—PM2.5 (Annual NAAQS)” and “Ohio—PM2.5 (24-Hour NAAQS)” to read as follows:

§ 81.336 Ohio.

* * * * *

Ohio—PM2.5
[Annual NAAQS]
Designated area | Designation ᵃ: Date ¹ | Designation ᵃ: Type
* * * * * * *
Steubenville-Weirton, OH-WV:
Jefferson County | 9/18/2013 | Attainment.
* * * * * * *
ᵃ Includes Indian Country located in each county or area, except as otherwise specified.
¹ This date is 90 days after January 5, 2005, unless otherwise noted.

* * * * *

Ohio—PM2.5
[24-Hour NAAQS]
Designated area | Designation for the 1997 NAAQS ᵃ: Date ¹ | Designation for the 1997 NAAQS ᵃ: Type | Designation for the 2006 NAAQS ᵃ: Date ² | Designation for the 2006 NAAQS ᵃ: Type
* * * * * * *
Steubenville-Weirton, OH-WV:
Jefferson County |  | Unclassifiable/Attainment | 9/18/2013 | Attainment.
* * * * * * *
ᵃ Includes Indian Country located in each county or area, except as otherwise specified.
¹ This date is 90 days after January 5, 2005, unless otherwise noted.
² This date is 30 days after November 13, 2009, unless otherwise noted.

* * * * *

[FR Doc. 2013-22623 Filed 9-17-13; 8:45 am]

BILLING CODE 6560-50-P